DEPARTMENT OF TRANSPORTATION

Federal Highway Administration

[Docket No. FHWA-2024-0057]

Notice of Intent To Prepare an Environmental Impact Statement for a Proposed Highway Project; Adams and Denver Counties, Colorado (Identification Number FHWA-CO-EIS-24-001)

AGENCY: Federal Highway Administration (FHWA), Department of Transportation (USDOT).

ACTION: Notice of Intent (NOI) to prepare an Environmental Impact Statement (EIS).

SUMMARY: The FHWA in coordination with the Colorado Department of Transportation (CDOT) is issuing this Notice of Intent (NOI) to solicit comment and advise the public, agencies, and stakeholders that an Environmental Impact Statement (EIS) will be prepared for transportation improvements to the Interstate 270 (I-270) Corridor. The I-270 Corridor Improvements Project is located in the City of Commerce City, Adams County, and City and County of Denver in the State of Colorado. The study limits include the full extent of I-270 from Interstate 25 (I-25) to Interstate 70 (I-70) (approximately 6.5 miles). I-270 is a controlled-access interstate highway with two through lanes in each direction. Persons and agencies who may be interested in or affected by the proposed project are encouraged to comment on the information in this NOI and the NOI Additional Information document. All comments received in response to this NOI will be considered and any information presented herein, including the preliminary purpose and need, preliminary alternatives and identified impacts, may be revised in consideration of the comments.

DATES: Comments on the NOI or the NOI Additional Information documents must be received on or before September 19, 2024.

ADDRESSES: This NOI and the NOI Additional Information document are available in the docket referenced above at www.regulations.gov and on the project website located at www.codot.gov/projects/studies/i270study. The NOI Additional Information document will also be mailed upon request. All interested parties are invited to submit comments by any of the following methods:

• Website: For access to the documents, go to the Federal Rulemaking Portal located at www.regulations.gov or the project website located at www.codot.gov/projects/studies/i270study. Follow the online instructions for submitting comments at www.regulations.gov.

• Mailing address or for hand delivery or courier: Docket Management Facility, U.S. Department of Transportation, 1200 New Jersey Avenue SE, West Building Ground Floor, Room W12-140, Washington, DC 20590.

All submissions should include the agency name and the docket number that appears in the heading of this Notice. All comments received will be posted without change to www.regulations.gov or www.codot.gov/projects/studies/i270study including any personal information provided. The Draft EIS will include a summary of the comments received.

FOR FURTHER INFORMATION CONTACT: Federal Highway Administration, Colorado Division, Attention: Chris Horn, Senior Area Engineer, 12300 W Dakota Ave #180, Lakewood, Colorado 80228; Email: Chris.Horn@dot.gov; Telephone: 720-963-3017; or Colorado Department of Transportation—Region 1, Attention: David Merenich, I-270 Project Director, 2829 West Howard Place, Denver, Colorado 80204; Email: david.merenich@state.co.us; Telephone: 720-933-5755; or I-270 Project Email: cdot_i270@state.co.us.

Persons interested in receiving project information can also use the project email address referenced above to be added to the project mailing list.

SUPPLEMENTARY INFORMATION: The FHWA and CDOT are committed to public involvement in this project. All public comments received in response to this NOI will be considered and potential revisions made to the information presented herein as appropriate. FHWA as the lead Federal agency, and CDOT as joint lead agency/project sponsor, are preparing an EIS to evaluate transportation solutions on I-270 between I-25 and I-70 in Adams and Denver Counties, Colorado. The EIS for the I-270 Corridor Improvements Project will be conducted in accordance with the requirements of the National Environmental Policy Act (NEPA) of 1969, as amended (42 United States Code [U.S.C.] 4321, et seq.), 23 U.S.C. 139, Council on Environmental Quality (CEQ) regulations implementing NEPA (40 Code of Federal Regulations [CFR] part 1500-1508), FHWA regulations implementing NEPA (23 CFR part 771) and all other applicable Federal, State, and local laws and regulations.

CDOT and FHWA started an environmental review of the I-270 Corridor in 2020. The agencies were working toward an Environmental Assessment (EA). The EA process was paused in late 2022 when CDOT decided that a more detailed environmental review was needed. Therefore, CDOT and FHWA are now initiating an EIS to evaluate the environmental impacts of the I-270 corridor transportation improvements.

To ensure that a full range of issues are addressed in the EIS and potential issues are identified, comments and suggestions are invited from all interested parties. FHWA requests comments and suggestions on the purpose and need, potential project alternatives and impacts, and the identification of any relevant information, studies, or analyses of any kind concerning impacts to the quality of the human and natural environment. The purpose of this request is to bring relevant comments, information, and analyses to the attention of FHWA and CDOT, as early in the process as possible, to enable the agency to make maximum use of this information in decision making.

Preliminary Purpose and Need

The preliminary purpose of the I-270 Corridor Improvements project is to implement transportation solutions that modernize the I-270 corridor to accommodate the existing and forecasted transportation demands.

The identified transportation needs are as follows:

• Traveler safety on the corridor

• Travel time and reliability on the corridor

• Transit on the corridor

• Bicycle and pedestrian connectivity across I-270

• Freight operations on the corridor

In addition to addressing project needs, CDOT, FHWA, Cooperating, and Participating Agencies have established a key project goal: to minimize the environmental and community impacts resulting from the project. The purpose and need statement may be revised based on comments received during the comment period on this Notice.

Preliminary Project Alternatives

The preliminary alternatives under consideration are summarized below and were developed with public and agency input through the early scoping process. The Lead Agencies will consider agency and public comments received during the NOI comment period, and these alternatives (and other information presented in the NOI) are subject to change based on input.

The preliminary alternatives will go through a screening process, informed by public and agency input through the scoping process. As a result of the screening process, one or more of the preliminary alternatives may be screened out and not fully analyzed in the EIS or other alternatives may be added.

No Action Alternative

The No Action Alternative would maintain the existing highway configuration of two general-purpose travel lanes in each direction. Bridges and pavement would continue to be maintained and repaired but underlying infrastructure deficiencies would remain.

Bicycle, Pedestrian, and Transit Enhancements Alternative

The Bicycle, Pedestrian, and Transit Enhancements Alternative would focus on improvements to bicycle, pedestrian, and transit connections in the community in lieu of additional highway capacity. It would include substantial ongoing maintenance and rehabilitation of existing highway structures and pavement and would retain the existing highway configuration.

Minimal Build Alternative

The Minimal Build Alternative would not add lane capacity to I-270 but would rebuild infrastructure, including replacing bridges that are reaching the end of their useful life, and addressing pavement condition and subsurface settling. It would also include safety improvements, such as widening shoulders and redesigning the I-76, York Street, Vasquez Boulevard, and Quebec Street interchange on- and off-ramps to provide adequate acceleration and deceleration lanes to meet design standards.

Three General-Purpose Lanes Alternative

The Three General-Purpose Lanes Alternative would include the safety improvements and interchange reconfigurations included in the Minimal Build Alternative. It would also add one general-purpose travel lane in each direction, for a total of three general-purpose lanes in each direction through the corridor. It would reconstruct other highway infrastructure to accommodate the widened highway footprint and modernize the existing infrastructure. Transit would remain in the general-purpose lanes as service exists today.

Two General-Purpose Lanes and One Transit-Only Lane Alternative

The Two General-Purpose Lanes and One Transit-Only Lane Alternative would include the safety improvements and interchange reconfigurations included in the Minimal Build Alternative. It would also add one new transit-only travel lane in each direction through the corridor for a total of two general-purpose lanes and one transit-only lane in each direction through the corridor. It would reconstruct other highway infrastructure to accommodate the widened highway footprint and modernize the existing infrastructure.

Two General-Purpose Lanes and One Express Lane That Accommodates Transit Alternative

The Two General-Purpose Lanes and One Express Lane that Accommodates Transit Alternative would include the safety improvements and interchange reconfigurations included in the Minimal Build Alternative. It would add one new travel lane in each direction through the corridor. The new lane would be operated as an Express Lane. Transit vehicles and high-occupancy vehicles (3 or more people) could travel in the express lane free of charge. Other travelers, including freight trucks, who choose to pay a fee could also use the new Express Lane. It would reconstruct other highway infrastructure to accommodate the widened highway footprint and modernize the existing infrastructure.

Three General-Purpose Lanes and One Express Lane That Accommodates Transit Alternative

The Three General-Purpose Lanes and One Express Lane that Accommodates Transit Alternative would include the safety improvements and interchange reconfigurations included in the Minimal Build Alternative. It would add two travel lanes in each direction: one general-purpose lane and one Express Lane for an overall configuration of three general-purpose lanes and one Express Lane in each direction through the corridor. Transit vehicles and high-occupancy vehicles (3 or more people) could travel in the Express Lane free of charge. Other travelers, including freight trucks, who choose to pay a fee could also use the new Express Lane. It would reconstruct other highway infrastructure to accommodate the widened highway footprint and modernize the existing infrastructure.

Two General-Purpose Lanes and Two Express Lanes That Accommodate Transit Alternative

The Two General-Purpose Lanes and Two Express Lanes that Accommodate Transit Alternative would include the safety improvements and interchange reconfigurations included in the Minimal Build Alternative. It would add two new travel lanes in each direction. The two new lanes would be operated as Express Lanes. Transit vehicles and high-occupancy vehicles (3 or more people) could travel in the Express Lane free of charge. Other travelers, including freight trucks, who choose to pay a fee could also use the new Express Lanes. It would reconstruct other highway infrastructure to accommodate the widened highway footprint and modernize the existing infrastructure.

Summary of Anticipated Impacts

The EIS will evaluate the potential social, economic, and environmental effects resulting from implementation of the build alternatives and the no build alternative. FHWA and CDOT will seek input from the public and agencies during the EIS development process regarding the effects of the project. CDOT and FHWA will evaluate effects to environmental and community resources in accordance with their NEPA guidance and procedures. The following environmental issues and considerations have been identified by the public and agencies as requiring the most attention in the environmental review process.

Environmental Justice Communities. The build alternatives have the potential to affect low income and minority populations. Preliminary data collection shows the neighborhoods surrounding the proposed project should be considered environmental justice communities. There is potential for the build alternatives to have impacts to these communities due to noise, air quality, financial impacts, and other factors.

Air Quality and Greenhouse Gas Emissions (GHGs). The build alternatives have the potential to impact air quality. The project will model air emissions for transportation-related criteria pollutants: carbon monoxide (CO), nitrogen dioxide (NO2), particulate matter of 10 microns or less in diameter (PM10), particulate matter of 2.5 microns or less in diameter (PM2.5), and ozone (O3) precursors [nitrogen oxides (NOX), and volatile organic compounds (VOCs)], as well as mobile source air toxics (MSATs) and GHGs.

Noise. The build alternatives have the potential to increase traffic noise within neighborhoods surrounding the highway. Additionally, construction of a build alternative may have the potential for temporary noise increases within the neighborhoods surrounding the highway.

Water Quality. The build alternatives have the potential to impact water quality. The project will include permanent and temporary control measures to reduce stormwater runoff to surrounding waters.

Wetlands and Waters of the U.S. The build alternatives may require dredge and/or fill of waters of the U.S. and impacts to wetlands, which may require a permit from the U.S. Army Corps of Engineers.

Hazardous Materials. The project area includes areas of known soil and groundwater contamination that could be disturbed during the construction of the build alternatives.

Right of Way (ROW). The build alternatives may require acquisition of right-of-way and/or easements. The build alternatives are expected to require some partial property acquisition and temporary easements. Some of the build alternatives may require residential or commercial relocations.

The EIS will evaluate the expected impacts and benefits to the resources identified above as well as other resources. The level of review of the identified resources for the EIS will be commensurate with the anticipated impacts to each resource from the proposed project and will be governed by the statutory or regulatory requirements protecting those resources. The analyses and evaluations conducted for the EIS will identify the potential for impacts; whether the anticipated impacts would be adverse; and the appropriate environmental mitigation measures. Additional information on the expected impacts is provided in the NOI Additional Information document available for review in the docket established for this project and on the project website as noted in the ADDRESSES section. The FHWA and CDOT are inviting public input during the NOI comment period. The resources identified for impact analysis in the EIS may be revised due to the consideration of public comments.

Anticipated Permits (and Other Authorizations)

Federal, State, and local agency permits, and other authorizations, are anticipated to be needed for implementation of a build alternative. Railroad agreements are also anticipated. Lists of the specific permits anticipated are included in the NOI Additional Information document.

Schedule for the Decision-Making Process

The project schedule follows the requirements of the environmental review process under 23 U.S.C. 139 and will comply with 40 CFR 1501.10(b)(2), which requires that environmental reviews for major infrastructure projects occur within 2 years (from the date of publication of the NOI) to the date of issuance of the ROD. The Draft EIS is anticipated to be issued between late 2024 and early 2025. A public comment period and public hearing will follow the publication of the Draft EIS. The Final EIS and ROD document(s) is anticipated to be issued between late 2025 and early 2026, within 24 months of the publication of this NOI per 23 U.S.C. 139(d)(10). Per 23 U.S.C. 139(d)(10), permits and authorizations should be completed by no later than 90 days after the issuance of the Record of Decision. However, for this project CDOT has requested in accordance with 23 U.S.C. 139(d)(10)(C)(ii) that the 404 permit and 401 water quality certifications follow a different timeline because the construction date is not expected until 2026 or later.

Scoping and Public Review

The project team developed an Agency Coordination Plan and a Public Involvement Plan. These plans will guide CDOT through the scoping and public review process. The Public Involvement Plan and the Agency Coordination Plan are attached to the NOI Additional Information Document.

CDOT and FHWA identified agencies with jurisdiction over resources within the study area. On June 8, 2023, FHWA and CDOT conducted an agency coordination meeting. After the meeting agencies were formally contacted by FHWA through the United States Postal Service and email to determine Cooperating and Participating Agency status. Another agency coordination meeting was held on November 1, 2023. Additional meetings with Cooperating and Participating Agencies will be held throughout the environmental review process. The Agency Coordination Plan and Public Involvement Plan included within the NOI Additional Information Document describes how the public and agencies will continue to be engaged during EIS development.

The project held a public open house on October 10, 2023, at the Eagle Pointe Recreation Center (Commerce City), to present the draft purpose and need and the draft proposed alternatives to the public. The public open house had 81 participants sign in to the event; attendees were highly engaged and provided detailed comments and thoughts. Participants were a mixture of local residents, commuters, interested groups, agency staff, and elected officials. A summary of the October public open house is available on the project website. Agencies were briefed on the public open house and input received at the November 1, 2023, agency coordination meeting.

In December 2023, CDOT hosted community “listening sessions” to gather additional feedback from area residents. The listening sessions were held at community locations in the study area; all included Spanish and English-speaking staff. CDOT has also conducted numerous one-on-one meetings with stakeholders.

Additional public and agency meetings are planned before the Draft EIS is published, and the Draft EIS will be available for public and agency review and comment prior to the Public Hearing.

Request for Identification of Potential Alternatives, Information, and Analyses Relative to the Proposed Action

To ensure that a full range of issues related to the study are addressed and all potential issues are identified, FHWA and CDOT invite comments and suggestions from the public and all federal, state, tribal, and local agencies. FHWA and CDOT request comments and suggestions on potential alternatives and impacts, and the identification of any relevant information, studies, or analyses of any kind concerning impacts affecting the quality of the human environment. Specifically, agencies and the public are asked to identify and submit potential alternatives for consideration and any information, such as anticipated significant issues or environmental impacts and analyses relevant to the proposed action, will be considered by the Lead and Cooperating agencies in developing the Draft EIS. Comments must be received by September 19, 2024. Any information presented herein, including the preliminary purpose and need, preliminary range of alternatives and identification of impacts may be revised after consideration of the comments. The purpose of this request is to bring relevant comments, information, and analyses to the Lead Agencies' attention, as early in the process as possible, to enable the agencies to make maximum use of this information in decision making.

There are several methods to submit comments as described in the ADDRESSES section of this notice. Any questions concerning this proposed action, including comments relevant to alternatives, information, and analyses, should be directed to FHWA or CDOT at the physical addresses, email addresses, or phone numbers provided in the FOR FURTHER INFORMATION CONTACT section of this notice.

Authority: 42 U.S.C. 4321 et seq.; 23 U.S.C. 139; 23 CFR part 771.

John M. Cater,
Division Administrator, Lakewood, Colorado, Federal Highway Administration.

[FR Doc. 2024-18587 Filed 8-19-24; 8:45 am]

BILLING CODE 4910-22-P